DEPARTMENT OF COMMERCE

Foreign-Trade Zones Board

[Docket 34-2007]

Foreign-Trade Zone 221 -- Mesa, Arizona, Application for Reorganization/Expansion

An application has been submitted to the Foreign-Trade Zones (FTZ) Board (the Board) by the City of Mesa, Arizona, grantee of FTZ 221, requesting authority to reorganize and expand its existing zone site to include additional acreage in or adjacent to the Williams Gateway Airport Customs and Border Protection user-fee airport. The application was submitted pursuant to the provisions of the Foreign-Trade Zones Act, as amended (19 U.S.C. 81a-81u), and the regulations of the Board (15 CFR part 400). It was formally filed on August 8, 2007.

FTZ 221 was approved on April 25, 1997 (Board Order 883, 62 FR 25164, 5/8/97). The general-purpose zone currently consists of one site (3,020 acres) at the Williams Gateway Airport located at 6001 South Power Road in Mesa (Maricopa County).

The applicant is now requesting authority for a reorganization and expansion of the zone site: 1) Modify the existing site by deleting 1,609 acres at the airport; and, 2) Expand the existing site to include an additional 607 acres (3 parcels) at the Logistics Park Mesa (LPM) located adjacent to the airport. The proposal will result in an overall net decrease in total zone space. LPM is owned by Pecos Capital Group LLC, North Valley Corporate Center LLC and Crismon Capital Group LLC. The site will provide warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is October 22, 2007. Rebuttal comments in response to material submitted during the foregoing period may be submitted during the subsequent 15-day period to November 5, 2007.

A copy of the application and accompanying exhibits will be available for public inspection at each of the following locations: City of Mesa Economic Development/Mesa City Plaza, 20 East Main Street, Mesa, AZ 85201; and, Office of the Executive Secretary, Foreign-Trade Zones Board, Room 2111, U.S. Department of Commerce, 1401 Constitution Avenue, NW, Washington, DC 20230.

For further information, contact Camille Evans at Camille_Evans@ita.doc.gov or at (202) 482-2350.

Dated: August 10, 2007.
Pierre V.Duy,
Acting Executive Secretary.

[FR Doc. E7-16444 Filed 8-20-07; 8:45 am]

BILLING CODE 3510-DS-S